ENVIRONMENTAL PROTECTION AGENCY

[ER-FRL-6670-7]

Environmental Impacts Statements; Notice of Availability

Responsible Agency: Office of Federal Activities, General Information (202) 564-7167 or http://www.epa.gov/compliance/nepa/.

Weekly receipt of Environmental Impact Statements Filed 12/19/2005 Through 12/23/2005, pursuant to 40 CFR 1506.9.

EIS No. 20050537, Final EIS, AFS, CA, Ansel Adams and John Muir Wildernesses, Trail and Commercial Pack Stock Management, Implementation, Inyo, Mono, Madera and Fresno Counties, CA, Wait Period Ends: 01/30/2006, Contact: Mary Beth Hennessy, 760-873-2448.

EIS No. 20050538, Draft EIS, AFS, CA, Horse Heli Project, Harvest Merchantable Timber, Thin Stands, Treat Fuels, and Conduct Associated Activities, Klamath National Forest, Oak Knoll Ranger District, Siskiyou County, CA. Comment Period Ends: 02/13/2006, Contact: Jan Ford 530-841-4501.

EIS No. 20050539, Draft EIS, GSA, CA, Andrade Port of Entry (POE) Improvements Project, Proposed Expansion, Renovation, or Replacement of POE, Andrade, CA, Comment Period Ends: 02/28/2006, Contact: Morris Angell, 415-522-3473.

EIS No. 20050540, Draft EIS, FAA, 00, New York/New Jersey/Philadelphia Metropolitan Area Airspace Redesign Project, To Increase the Efficiency and Reliability of the Airspace Structure and Air Traffic Control System, NY, NJ and PA, Comment Period Ends: 06/01/2006, Contact: Steve Kelly, 1-866-347-5463.

EIS No. 20050541, Draft EIS, COE, AR, Bayou Meto Basin, Arkansas General Reevaluation Project, Address Waterfowl Management, Water Supply and Flood Control Strategies, Located in Portions of Lonoke, Prairie, Jefferson, Arkansas and Pulaski, AR, Comment Period Ends: 02/24/2006, Contact: Mark Smith, 901-544-0670.

EIS No. 20050542, Final Supplement, AFS, WA, Upper Charley Subwatershed Ecosystem Restoration Projects, Proposing to Amend the Umatilla National Forests Land and Resource Management Plan to Incorporate Management for Canada Lynx, Pomeroy Ranger District, Umatilla National Forest, Garfield County, WA, Wait Period Ends: 02/13/2006, Contact: Allen J. Ollila, 701-227-7735.

EIS No. 20050543, Draft EIS, NPS, VA, Manassas National Battlefield Park General Management Plan, Implementation, Fairfax and Prince William Counties, VA, Comment Period Ends: 02/28/2006, Contact: Patrick Gregerson, 202-619-7277.

EIS No. 20050544, Draft EIS, FHW, KY, Newtown Pike Extension Project, Road Connection from West Main Street to South Limestone Street in Lexington, Fayette County, KY, Comment Period Ends: 03/17/2006, Contact: Jose Sepulveda, 502-223-6720.

EIS No. 20050545, Draft EIS, FHW, CA, Doyle Drive Project, South Access to the Golden Gate Bridge, Propose to Improve Seismic, Structural, and Traffic Safety, Presidio of San Francisco, San Francisco County Transportation Authority, Marin and San Francisco Counties, CA, Comment Period Ends: 03/01/2006, Contact: Leland W. Dong, 916-498-5860.

EIS No. 20050546, Draft EIS, BLM, ID, Smoky Canyon Mine Panels F & G, Proposed Mine Expansion, Caribou County, ID, Comment Period Ends: 02/28/2006, Contact: Bill Stout, 208-478-6340.

EIS No. 20050547, Final EIS, AFS, ID, Paddy Flat Vegetation Project, Harvesting and Regenerate Timber Stands Precommercially Thin Plantations, Rapid, Kennally and Camp Creeks, Payette National Forest, McCall Ranger District, Valley County, ID, Wait Period Ends: 01/30/2006, Contact: Dan Anderson, 208-634-0435.

Amended Notices

EIS No. 20050401, Draft Supplement, SFW, CA, Southern Sea Otters (Enhydra lutris nereis) Translocation Program, New and Updated Information, San Nicolas Island, Southern California Bight, CA, Comment Period Ends: 03/06/2006, Contact: Greg Sander, 805-644-1766 Ext 315.

Revision of FR Notice Published on 10/07/2005: Comment Period Extended from 01/05/2006 to 03/06/2006.

EIS No. 20050446, Draft EIS, USN, 00, Undersea Warfare Training Range (USWTR), Installation and Operation, Preferred Site (in the Cherry Point Operating Area) and the Alternate Sites (within the Virginia Capes and Jacksonville Operating Areas), NC, VA and FL, Comment Period Ends: 01/30/2006, Contact: Keith Jenkins, 757-322-4046.

Revision of FR Notice Published on 10/28/2005: Comment Period Extended from 12/28/2005 to 1/30/2006.

EIS No. 20050518, Draft EIS, BLM, WY, Atlantic Rim Natural Gas Field Development Project, Proposed Natural Gas Development to 2000 Wells, 1800 to Coal Beds and 200 to Other Formations, Carbon County, WY, Comment Period Ends: 02/17/2006, Contact: David Simons, 307-328-4328.

Revision of FR Notice Published on 12/16/2005: Correction to Comment Period from 01/30/2006 to 02/17/2006.

EIS No. 20050534, Draft EIS, AFS, WA, The Summit at Snoqualmie Master Development Plan (MPD), Proposal to Ensure Long-Term Economic Viability, Mt. Baker-Snoqualmie/Okanogan-Wnatchee National Forests, King County, WA, Comment Period Ends: 02/06/2006, Contact: Larry Donovan, 425-744-3403.

Revision of FR Notice Published on 12/23/2005: Correction to Contact Person Telephone Number.

Dated: December 27, 2005.
Elaine Suriano,
Environmental Scientist, NEPA Compliance Division, Office of Federal Activities.

[FR Doc. E5-8127 Filed 12-29-05; 8:45 am]

BILLING CODE 6560-50-P